DEPARTMENT OF TRANSPORTATION

Public Notice for Waiver of Aeronautical Land-Use Assurance; Oakland/Southwest Airport; New Hudson, MI

AGENCY: Federal Aviation Administration, DOT.

ACTION: Notice of intent of waiver with respect to land.

SUMMARY: The Federal Aviation Administration (FAA) is considering a proposal to change a portion of the Oakland/Southwest Airport from aeronautical use to non-aeronautical use and to authorize the sale of the airport property. The proposal consists of the sale of vacant, unimproved land owned by the County of Oakland (County).

The County has requested from FAA a “Release from Federal agreement obligated land covenants” to sell one (1) parcel and a portion of another parcel of property acquired by the County without Federal funding.

The above mentioned land is not needed for aeronautical use, as shown on the Airport Layout Plan. There are no impacts to the airport by allowing the County to dispose of the vacant property. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before November 22, 2010.

ADDRESSES: Mr. David J. Welhouse, Program Manager, Detroit Airports District Office, 11677 South Wayne Road, Suite 107, Romulus, Michigan 48174.

FOR FURTHER INFORMATION CONTACT: Mr. David J. Welhouse, Program Manager, Detroit Airports District Office, 11677 South Wayne Road, Suite 107, Romulus, Michigan 48174. Telephone Number (734) 229-2952/FAX Number (734) 229-2950. Documents reflecting this FAA action may be reviewed at this same location or at the Michigan Department of Transportation, Airports Division, 2700 Port Lansing Road, Lansing, Michigan.

SUPPLEMENTARY INFORMATION: Following is a legal description of the property located in Lyon Township, Oakland County, Michigan, and described as follows:

Description of Parcel 12 being released (1.88 acres):

Part of the Southeast ¼ of Section 4, Town 1 North, Range 7 East, Lyon Township, Oakland County, Michigan, described as commencing at the Southeast corner of said Section 4; thence along the South line of said Section, due West 1297.34 feet; thence due North 903.09 feet to the point of beginning; thence due West 150.00 feet; thence due North 502.47 feet to the centerline of Pontiac Trail; thence along the said centerline, North 59 degrees 44 minutes 06 seconds East 173.67 feet, thence due South 590.00 feet to the point of beginning.

Description of that portion of Parcel 11 being released (0.156 acres):

A part of the Southeast ¼ of Section 4, Town 1 North, Range 7 East and part of the Northeast ¼ of Section 9, Lyon Township, Oakland County, Michigan, being more particularly described as: commencing at the Southeast corner of said Section 4; thence South 86 degrees 15 minutes 46 seconds West, 1297.34 feet along the South line of said Section 4; thence North 3 degrees 25 minutes 08 seconds West, 781.08 feet to the point of beginning; thence 155.83 feet along a non-tangent curve to the right, said curve having a radius of 293.00 feet, a Delta of 30 degrees 28 minutes 18 seconds and a Chord bearing North 41 degrees 01 minutes 10 seconds West, 154.00 feet; thence North 86 degrees 34 minutes 52 seconds East, 93.96 feet, thence South 3 degrees 25 minutes 08 seconds East, 122.01 feet to the point of beginning and containing 6,793 square feet or 0.156 acres.

Issued in Romulus, Michigan, on August 11, 2010.
John L. Mayfield, Jr.,
Manager, Detroit Airports District Office, FAA, Great Lakes Region.

[FR Doc. 2010-26432 Filed 10-21-10; 8:45 am]

BILLING CODE 4910-13-M